FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 016207N.

Name: Admiral Overseas Shipping Company, Inc.

Address: 323 S. Swing Rd., Greensboro, NC 27409.

Date Revoked: January 24, 2009.

Reason: Failed to maintain a valid bond.

License Number: 000415F.

Name: Aircargo Brokerage Co.

Address: 5301 NW 74th Ave., Miami, FL 33166.

Date Revoked: December 24, 2008.

Reason: Failed to maintain a valid bond.

License Number: 018063F.

Name: Ark Technology, Inc. dba Ark International.

Address: 14545 Valley View Ave., Ste. G, Santa Fe Spring, CA 90670.

Date Revoked: January 10, 2009.

Reason: Failed to maintain a valid bond.

License Number: 015839N.

Name: Asian-Pacific Dragon Shipping, Inc.

Address: 9420 Yelstar Ave., Ste. 108, El Monte, CA 91731.

Date Revoked: January 4, 2009.

Reason: Failed to maintain a valid bond.

License Number: 020465NF.

Name: Express Cargo USA LLC.

Address: 1675 York Ave., Ste. 31B, New York, NY 10128.

Date Revoked: January 10, 2009.

Reason: Failed to maintain valid bonds.

License Number: 003072N.

Name: General International Freight Forwarders, Inc.

Address: 200 W. Thomas Street, Ste. 430, Seattle, WA 98119.

Date Revoked: December 26, 2008.

Reason: Failed to maintain a valid bond.

License Number: 018680N.

Name: Global Express International, LLC.

Address: 13439 Pumice Street, Norwalk, CA 90650.

Date Revoked: January 23, 2009.

Reason: Failed to maintain a valid bond.

License Number: 017381F.

Name: HPK Logistics (USA) Inc.

Address: 727 Brea Canyon Road, Ste. 14, Walnut, CA 91789.

Date Revoked: January 29, 2009.

Reason: Failed to maintain a valid bond.

License Number: 021032NF.

Name: IVI International Corp. dba IVI International Freight Forwarders.

Address: 10250 N.E. 89th Ave., Bay #10, Medley, FL 33178.

Date Revoked: January 23, 2009.

Reason: Surrendered license voluntarily.

License Number: 018147F.

Name: Jag Int'l of So. Fla., Inc.

Address: 72 East McNab Road, Ste. 54, Pompano Beach, FL 33060.

Date Revoked: January 19, 2009.

Reason: Failed to maintain a valid bond.

License Number: 019687N.

Name: OCS Logistics Inc.

Address: 17990 E. Ajax Circle, City of Industry, CA 91748.

Date Revoked: January 15, 2009.

Reason: Failed to maintain a valid bond.

License Number: 019533NF.

Name: Opus-One Cargo Corp.

Address: 7180 NW 84th Ave., Miami, FL 33166.

Date Revoked: January 30, 2009.

Reason: Failed to maintain valid bonds.

License Number: 018862F.

Name: Rima R. Saleh dba Overseas Shipping.

Address: 3709 So. George Mason Drive, Ste. 1314E, Falls Church, VA 22041.

Date Revoked: December 24, 2008.

Reason: Failed to maintain a valid bond.

License Number: 020474N.

Name: Sino-USA Logistics, Inc.

Address: 11570 Wright Road, Lynwood, CA 90262.

Date Revoked: January 15, 2009.

Reason: Failed to maintain a valid bond.

License Number: 004440F.

Name: Sunwood International, Inc.

Address: 11222 S. LaCienega Blvd., Ste. 180, Inglewood, CA 90304.

Date Revoked: December 20, 2008.

Reason: Failed to maintain a valid bond.

License Number: 020854NF.

Name: Ten Dragons Logistics Corp. dba Ten Dragons dba Ten Dragons Logistics.

Address: 24051 Lapwing Lane, Laguna Niguel, CA 92677.

Date Revoked: January 9, 2009.

Reason: Failed to maintain valid bonds.

License Number: 004164NF.

Name: Tober Group Inc.

Address: 38-50 Pulaski Street, Bayonne, NJ 07002.

Date Revoked: January 15, 2009.

Reason: Failed to maintain valid bonds.

License Number: 019074N.

Name: Worldgreen Shipping Line, Inc. dba Worldgreen Line.

Address: 1371 S. Santa Fe Ave., Ste. 200, Compton, CA 90221.

Date Revoked: August 6, 2005.

Reason: Failed to maintain a valid bond.

Sandra L. Kusumoto,
Director, Bureau of Certification and Licensing.

[FR Doc. E9-2922 Filed 2-10-09; 8:45 am]

BILLING CODE 6730-01-P